DEPARTMENT OF COMMERCE

Economic Development Administration

Notice of Petitions by Firms for Determination of Eligibility To Apply for Trade Adjustment Assistance

AGENCY: Economic Development Administration, Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[7/3/2015 Through 7/7/2015]
Firm name | Firm address | Date accepted for investigation | Product(s)
NicVape, Inc. | 107 Corporate Drive, Spartanburg, SC 29303 | 7/6/2015 | The firm manufactures liquids and concentrates for the electronic cigarette industry.
Alpha Products, Inc. | 5570 West 70th Place, Chicago, IL 60638 | 7/6/2015 | The firm manufactures stamped and fabricated metal parts including steel and aluminum railcar parts, speaker baskets, cluster mailboxes, and high capacity magazines.
Modular Sound Systems, Inc. d/b/a Bag End Loudspeakers | 1201 Armstrong Street, Algonquin, IL 60102 | 7/6/2015 | The firm manufactures loudspeakers and electronic components.
Diversified Plastics Corporation | 120 West Mount Vernon Street, Nixa, MO 65714 | 7/7/2015 | The firm manufactures plastics including expandable polypropylene & polystyrene for packaging, injection molding, beaded press molding, concrete foam blocks and automotive components.
Georgia Chair Company, Inc. | 456 Industrial Boulevard, Gainesville, GA 30501 | 7/7/2015 | The firm manufactures chairs, tables, desks, and bookcases; the manufacturing material is red oak wood.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: July 7, 2015.
Michael S. DeVillo,
Eligibility Examiner.

[FR Doc. 2015-17035 Filed 7-10-15; 8:45 am]

BILLING CODE 3510-WH-P